DEPARTMENT OF THE INTERIOR

Office of Surface Mining Reclamation and Enforcement

30 CFR Part 926

[SPATS No. MT-021-FOR]

Montana Abandoned Mine Land Reclamation Plan

AGENCY: Office of Surface Mining Reclamation and Enforcement, Interior.

ACTION: Proposed rule; reopening and extension of public comment period and opportunity for public hearing on proposed amendment.

SUMMARY: Office of Surface Mining Reclamation and Enforcement (OSM) is announcing receipt of revisions and additional explanatory information pertaining to a previously proposed amendment to the Montana abandoned mine land reclamation (AMLR) plan (hereinafter, the “Montana plan”) under the Surface Mining Control and Reclamation Act of 1977 (SMCRA). Montana proposes revisions and additional explanatory information about the Department of Environmental Quality, its authority, organization, personnel staffing policies, and purchasing and procurement policies. Montana also provides information about the AMLR plan, the goals and objectives of the emergency program, reclamation project ranking and selection, the coordination among agencies, policies and procedures for land acquisition, reclamation of private land, consent for entry, the accounting system, and a new appendix concerning the abandoned inactive mines scoring system (AIMSS). Montana intends to revise its plan to meet the requirements of the corresponding Federal regulations and to be consistent with SMCRA, to clarify ambiguities, and to improve operational efficiency.

DATES: We will accept written comments on this amendment until 4 p.m., [m.d.t.], on July 2, 2001. If requested, we will hold a public hearing on the amendment on June 26, 2001. We will accept requests to speak until 4 p.m., [m.d.t.], on June 18, 2001.

ADDRESSES: You should mail or hand deliver written comments and requests to speak at the hearing to Guy Padgett at the address listed below. You may review copies of the Montana plan, this amendment, and all written comments received in response to this document at the addresses listed below during normal business hours, Monday through Friday, excluding holidays. You may receive one free copy of the amendment by contacting OSM's Casper Field Office.

Guy Padgett, Director, Casper Field Office, Office of Surface Mining Reclamation and Enforcement, 100 East “B” Street, Federal Building, Room 2128, Casper, Wyoming 82601-1918

Vic Anderson, Chief, Mine Waste Cleanup Bureau, Remediation Division, Montana Department of Environmental Quality, P.O. Box 200901, Helena, MT 59620-0901, Telephone: (406) 444-2544

FOR FURTHER INFORMATION CONTACT: Guy Padgett, Telephone: (307) 261-6550, Internet address: gpadgett@osmre.gov.

SUPPLEMENTARY INFORMATION:

I. Background on the Montana Plan

II. Description of the Proposed Amendment

III. Public Comment Procedures

IV. Procedural Determinations

I. Background on the Montana Plan

On November 24, 1980, the Secretary of the Interior approved the Montana plan. You can find general background information on the Montana plan, including the Secretary's findings and the disposition of comments, in the October 24, 1980, Federal Register (45 FR 70445). You can also find later actions concerning Montana's plan and plan amendments at 30 CFR 926.21 and 926.25.

II. Description of the Proposed Amendment

By letter dated August 15, 2000, Montana sent to us a proposed amendment to its plan (SPATS No. MT-021-FOR, Administrative Record No. MT-18-01) under SMCRA (30 U.S.C. 1201 et seq.). Montana sent the amendment in response to the required plan amendment at 30 CFR 926.21(a) and at its own initiative. The full text of the plan amendment is available for you to read at the locations listed above under ADDRESSES.

Montana proposed to delete its AMLR rule definitions of “abandoned mine land reclamation fund,” “emergency,” and “extreme danger,” at ARM 26.4.301 and its definitions of “abandoned mine land reclamation fund,” “emergency,” “expended,” “extreme danger,” “fund,” “left or abandoned in either an unreclaimed or inadequately reclaimed condition,” “Montana abandoned mine reclamation program,” and “reclamation activities” at ARM 26.4.1231. Montana also proposed to delete the AMLR rules at ARM 26.4.1232 through 26.4.1242 and to rely instead on its AMLR plan and on the statutory provisions at MCA 82-4-239, 82-4-371, and 82-4-445. Montana proposed revisions to MCA 82-4-239 to reflect the reorganized duties of the Board of Environmental Review and the Department of Environmental Quality. Lastly, Montana presented its 1995 reorganization plan abolishing the Department of State Lands and creating the Department of Environmental Quality.

We announced receipt of the proposed amendment in the September 25, 2000, Federal Register (65 FR 57581), provided an opportunity for a public hearing or meeting on its substantive adequacy, and invited public comment on its adequacy (Administrative Record No. MT-18-06). Because no one requested a public hearing or meeting, none was held. The public comment period ended on October 25,2000.

During our review of the amendment, we identified concerns relating to the deletion of Montana's rules concerning non-emergency AML reclamation, the deletion of Montana's rules concerning emergency reclamation, the statutes relating to Montana's AMLR plan, cross-references and quotes in the Montana plan which cited the deleted rules, and the reference to the former Department of State Lands, now the Department of Environmental Quality. We notified Montana of our concerns by letter dated January 24, 2001 (Administrative Record No. MT-18-08). Montana responded in a letter dated April 30, 2001, by submitting additional explanatory information to OSM's concerns and a revised 2001 plan amendment (Administrative Record No. MT-18-11).

Specifically, Montana proposes explanatory information in a letter dated April 30, 2001 to address each of OSM's concerns, in particular to explain where Montana believes it retains authority to implement its approved AMLR program (both emergency and non-emergency reclamation activities) for each deleted rule, where Montana intends to rely upon Federal authority, that the 2001 plan amendment supercedes anything contained in earlier plans which may conflict with subsequent revisions, and to list additional statutes which provide AMLR authority. Montana has also revised the AMLR plan to provide 2001 updated information, delete obsolete cites, change the State agency name to the Department of Environmental Quality, provide missing pages, provide an organization chart for the Department of Environmental Quality, and make other editorial changes.

III. Public Comment Procedures

Written Comments

Send your written comments to us at the address given above. Your written comments should be specific, pertain only to the issues proposed in this rulemaking, and include explanations in support of your recommendations. In the final rulemaking, we will not consider or include in the Administrative Record any comments received after the time indicated under DATES or at locations other than the Casper Field Office.

Electronic Comments

Please submit Internet comments as an ASCII, WordPerfect, or Word file avoiding the use of special characters and any form of encryption. Please also include Attn: SPATS No. MT-021-FOR, your name and return address in your Internet message. If you do not receive a confirmation that we have received your Internet message, contact the Casper Field Office at (307) 261-6550.

Availability of Comments

We will make comments, including names and addresses of respondents, available for public review during normal business hours. We will not consider anonymous comments. If individual respondents request confidentiality, we will honor their request to the extent allowable by law. Individual respondents who wish to withhold their name or address from public review, except for the city or town, must state this prominently at the beginning of their comments. We will make all submissions from organizations or businesses, and from individuals identifying themselves as representatives or officials of organizations or businesses, available for public review in their entirety.

IV. Procedural Determinations

Executive Order 12630—Takings

This rule does not have takings implications. This determination is based on the analysis performed for the counterpart Federal regulations.

Executive Order 12866—Regulatory Planning and Review

This rule is exempted from review by the Office of Management and Budget (OMB) under Executive Order 12866.

Executive Order 12988—Civil Justice Reform

The Department of the Interior has conducted the reviews required by section 3 of Executive Order 12988 and has determined that, to the extent allowable by law, this rule meets the applicable standards of subsections (a) and (b) of that section. However, these standards are not applicable to the actual language of State AMLR plans and revisions thereof since each such plan is drafted and promulgated by a specific State, not by OSM. Decisions on proposed State AMLR plans and revisions thereof submitted by a State are based on a determination of whether the submittal meets the requirements of Title IV of SMCRA (30 U.S.C. 1231-1243) and the applicable Federal regulations at 30 CFR Part 884.

Executive Order 13132—Federalism

This rule does not have Federalism implications within the meaning of Executive Order 13132. SMCRA delineates the roles of the Federal and State governments with regard to the regulation of surface coal mining and reclamation operations. One of the purposes of SMCRA is to establish a nationwide program to protect society and the environment from the adverse effects of surface coal mining operations. Section 405 of SMCRA authorized the creation of State abandoned mine reclamation programs for the purpose of reclaiming and restoring land and water resources adversely affected by past coal mining operations. Section 405(d) of SMCRA specifies the criteria for the approval and disapproval of these State abandoned mine reclamation programs which are funded at 100% by grants from the Federal government.

National Environmental Policy Act

No environmental impact statement is required for this rule because agency decisions on proposed State AMLR plans and revisions thereof are categorically excluded from compliance with the National Environmental Policy Act (42 U.S.C. 4332) by the Manual of the Department of the Interior (516 DM 6, Appendix 8, paragraph 8.4B(29)).

Paperwork Reduction Act

This rule does not contain information collection requirements that require approval by OMB under the Paperwork Reduction Act (44 U.S.C. 3507 et seq.).

Regulatory Flexibility Act

The Department of the Interior has determined that this rule will not have a significant economic impact on a substantial number of small entities under the Regulatory Flexibility Act (5 U.S.C. 601 et seq.). The State submittal which is the subject of this rule is based on Federal regulations for which an economic analysis was prepared and certification made that such regulations would not have a significant economic effect on a substantial number of small entities. Accordingly, this rule will ensure that existing requirements established by SMCRA or previously promulgated by OSM will be implemented by the State. In making the determination as to whether this rule would have a significant economic impact, the Department relied on the data and assumptions in the analyses for the corresponding Federal regulations.

Small Business Regulatory Enforcement Fairness Act

This rule is not a major rule under 5 U.S.C. 804(2), the Small Business Regulatory Enforcement Act. This rule: (a) Does not have an annual effect on the economy of $100 million; (b) will not cause a major increase in costs or prices for consumers, individual industries, geographic regions, or Federal, State or local governmental agencies; and (c) does not have significant adverse effects on competition, employment, investment, productivity, innovation, or the ability of U.S.-based enterprises to compete with foreign-based enterprises. This determination is based on the fact that the State submittal which is the subject of this rule is based on counterpart Federal regulations for which an analysis was prepared and a determination made that the Federal regulation was not considered a major rule.

Unfunded Mandates

This rule will not impose a cost of $100 million or more in any given year on any governmental entity or the private sector.

List of Subjects in 30 CFR Part 926

Abandoned mine reclamation programs, Intergovernmental relations, Surface mining, Underground mining.

Dated: May 21, 2001.
Brent Wahlquist,
Regional Director, Western Regional Coordinating Center.

[FR Doc. 01-13802 Filed 5-31-01; 8:45 am]

BILLING CODE 4310-05-P